SMALL BUSINESS ADMINISTRATION

[Declaration of Disaster #3427]

State of Alaska; Amendment #1

In accordance with information received from the Federal Emergency Management Agency, the above numbered declaration is hereby amended to extend the deadline for filing applications for physical damages as a result of this disaster to August 26, 2002.

All other information remains the same, i.e., the deadline for filing applications for economic injury is March 26, 2003.

(Catalog of Federal Domestic Assistance Program Nos. 59002 and 59008).

Dated: August 15, 2002.
Herbert L. Mitchell,
Associate Administrator for Disaster Assistance.

[FR Doc. 02-21448 Filed 8-21-02; 8:45 am]

BILLING CODE 8025-01-P